DEPARTMENT OF COMMERCE

National Oceanic and Atmospheric Administration

RIN 0648-XT38

Notice of Intent to Prepare a Programmatic Environmental Impact Statement and Conduct Restoration Planning to Compensate for Injuries to Natural Resources in Portland Harbor, Oregon

AGENCY: National Marine Fisheries Service (NMFS), National Oceanic and Atmospheric Administration (NOAA), Commerce.

ACTION: Notice of intent to prepare a programmatic environmental impact statement and restoration plan; request for comments; notice of public scoping meeting.

SUMMARY: NOAA, the Department of the Interior (U.S. Fish and Wildlife Service), the Oregon Department of Fish and Wildlife, the Nez Perce Tribe, the Confederated Tribes of the Warm Springs Indian Reservation of Oregon, the Confederated Tribes of the Umatilla Indian Reservation, the Confederated Tribes of Siletz Indians, and the Confederated Tribes of the Grand Ronde Community of Oregon are collectively referred to as the “Trustees” for this case. The Confederated Tribes and Bands of the Yakima Nation, although a Trustee for Portland Harbor, has withdrawn from the Trustee Council and is no longer participating in the restoration planning efforts of the group of Trustees identified here. The Trustees for this case are providing notice of their efforts to plan restoration projects to compensate for injuries to natural resources in Portland Harbor in the Lower Willamette River. The Trustees seek damages from potentially responsible parties (PRPs) to restore, rehabilitate, replace or acquire the equivalent of natural resources and services injured by the release of hazardous substances. The Trustees will prepare a programmatic environmental impact statement (PEIS) to identify and address the environmental impacts of the proposed restoration, and they seek public involvement in development of a Draft Restoration Plan (RP). This notice explains the scoping process the Trustees will use to gather input from the public. Comments on what the Trustees should consider in the PEIS and RP may be submitted in written form or verbally at a public scoping meeting.

DATES: A preliminary public scoping meeting date and time is scheduled as follows:

Wednesday, March 3, 2010, 6-8 p.m., City of Portland's Water Pollution Control Laboratory, 6543 N. Burlington Avenue, Portland, OR 97203

Written comments must be received by March 15, 2010.

ADDRESSES: Written comments on suggested alternatives and potential impacts should be sent to Megan Callahan Grant, NOAA Restoration Center, 1201 NE Lloyd Blvd. #1100, Portland, OR 97232.

FOR FURTHER INFORMATION CONTACT: Megan Callahan Grant at (503) 231-2213 or e-mail at megan.callahan-grant@noaa.gov.

SUPPLEMENTARY INFORMATION: Under the Comprehensive Environmental Response, Compensation and Liability Act of 1980 (CERCLA), 42 U.S.C. 9601 et seq., parties responsible for releasing hazardous substances into the environment are liable both for the costs of responding to the release (by cleaning up, containing or otherwise remediating the release) and for damages arising from injuries to publicly owned or managed natural resources resulting from the release. Natural resource damage assessment (NRDA) is the process of assessing the nature and extent of the resulting injury, destruction or loss of natural resources and the services they provide. NRDA also includes the process of determining the compensation required to make the public whole for such injuries, destruction or loss. CERCLA authorizes certain Federal and state agencies and Indian tribes to be designated as Trustees for affected natural resources. Under CERCLA and implementing regulations, these agencies and tribes are authorized to assess natural resource injuries and to seek compensation from responsible parties, including the costs of performing the damage assessment. The Trustees are required to use recovered damages only to restore, replace or acquire the equivalent of the injured or lost resources and services.

In January of 2007, the Portland Harbor Trustee Council released a Pre-Assessment Screen (PAS) for the Portland Harbor Superfund site. The purpose of the PAS was to provide the foundation for determining the need to conduct a formal natural resource damage assessment as authorized by CERCLA. The PAS concluded that natural resources in the area have been affected or potentially affected from releases or discharges of contaminants. Exposed living natural resources include, but are not limited to: (1) aquatic-dependent mammals such as mink and river otter, and species they depend on as prey items; (2) migratory birds, including osprey, bald eagle, mergansers and other waterfowl, great blue heron, spotted sandpiper and other shorebirds, cliff swallow, belted kingfisher, and other species; (3) threatened and endangered species; (4) anadromous and resident fish, including salmon and steelhead; (5) reptiles and amphibians; (6) aquatic invertebrates; (7) wapato and other aquatic plants. Exposed habitat types and water natural resources include wetland and upland habitats, groundwater, and surface water. The services that are provided by these potentially affected natural resources include, but are not limited to: (1) habitat for trust resources, including food, shelter, breeding, foraging, and rearing areas, and other factors essential for survival; (2) consumptive commercial resource use such as commercial fishing; (3) consumptive recreational resource use such as hunting and fishing; (4) non-consumptive uses such as wildlife viewing, photography, and other outdoor recreation activities; (5) primary and secondary contact activities such as swimming and boating; (6) cultural, spiritual, and religious use; (7) option and existence values; (7) traditional foods. Based on the conclusions of the PAS, the Portland Harbor Trustee Council has determined that proceeding past the preassessment phase to a full natural resource damage assessment is warranted.

Scientific literature and studies being conducted by the Trustees seek to document injuries from hazardous substances found in Portland Harbor. The objective of these studies is to demonstrate (1) how the contamination has harmed the organisms that inhabit the riverine sediments, (2) how the contamination has harmed and the fish and wildlife that come into contact with the contaminated sediments or that eat contaminated prey items, and (3) how the harm to the natural resources has impacted the people that use these resources. Concurrent with the damage assessment, the Trustees plan to carry out restoration planning, seeking comments from the public on how best to make the public whole for injuries documented through the damage assessment.

As restoration planning proceeds, the Trustees will take advantage of opportunities to settle natural resource damage claims with willing parties. By identifying criteria and guidance to be used in selecting feasible restoration projects, the plan will provide a framework to maximize the benefits of specific restoration projects to the affected resources and services in the defined areas of the Lower Willamette River. The Trustees plan to consider alternatives that may include: (1) integrated habitat restoration actions that will benefit multiple species and services (those species listed above as potentially affected by releases of hazardous substances, such as salmon and resident fish, mammals such as mink and river otter, and aquatic-dependent birds such as osprey and bald eagle); (2) species-specific restoration actions (for example, augmenting a species population through artificial production); and (3) a no-action alternative (no action takes place and the public is not compensated). Additional alternatives identified through the public involvement process may also be considered, to the extent that they demonstrate a nexus to natural resources injured by the release of hazardous substances.

The National Environmental Policy Act (NEPA), 42 U.S.C. 4321 et seq., and the Council on Environmental Quality regulations implementing NEPA under 40 CFR Chapter V, apply to restoration actions by Federal trustees. These authorities prescribe a scoping process the purpose of which is to identify the concerns of the affected public and Federal agencies, states, and Indian tribes, involve the public early in the decision making process, facilitate an efficient PEIS preparation process, define the issues and alternatives that will be examined in detail, and save time by ensuring that draft documents adequately address relevant issues. The scoping process reduces paperwork and delay by ensuring that important issues are addressed early.

The Trustees will prepare an Administrative Record (Record). The Record will include documents that the Trustees relied upon during the development of the RP and PEIS. After preparation, the Record will be on file at the NOAA Restoration Center's offices in Portland, OR. Additional documents and information will be available at the following websites: http://www.darp.noaa.gov/ and http://www.fws.gov/oregonfwo/contaminants/PortlandHarbor/default.asp

Release of a draft PEIS for public comment is planned for late 2011. Specific dates and times for future events will be publicized when scheduled.

Dated: January 26, 2010.
Patricia A. Montanio,
Director, Office of Habitat Conservation, National Marine Fisheries Service.

[FR Doc. 2010-2019 Filed 1-29-10; 8:45 am]

BILLING CODE 3510-22-S